DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date

February 17, 2016 8:30 a.m.-5:40 p.m. EST.

February 18, 2016 8:10 a.m.-12:00 p.m. EST.

Place: U.S. Department of Health and Human Services, Hubert H. Humphrey Building, Room 705-A, 200 Independence Avenue, SW., Washington, DC 20024, (202) 690-7100.

Status: Open.

Purpose

At this meeting the Committee will hear presentations and hold discussions on several health data policy topics. The Committee will receive updates from the Department, including from the Office of the National Coordinator that will focus on the Interoperability Roadmap, and the Centers for Medicare and Medicaid Services. The Committee will discuss and take action on a recommendation letter stemming from the June 16-17, 2015 inaugural hearing of the Review Committee and approve the report “Advancing Community-Level Core Measurement: A Progress Report and Workshop Summary.” The Committee will further review its strategic plan for 2016 and all Subcommittees will report on their workplans and next steps. In addition, the Committee will be briefed on and discuss the recent implementation of ICD-10 as well as an overview of current challenges and opportunities regarding use of All Payer Claims Databases. After the plenary session adjourns, the Work Group on HHS Data Access and Use will continue strategic discussions on building a framework for guiding principles for data access and use. The times shown above are for the full Committee meeting. Subcommittee-specific topics will be addressed as part of the Full Committee schedule.

Contact Person for More Information: Substantive program information may be obtained from Rebecca Hines, Executive Secretary, NCVHS, National Center for Health Statistics, Centers for Disease Control and Prevention, 3311 Toledo Road, Hyattsville, Maryland 20782, telephone (301) 458-4715. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: January 28, 2016.
James Scanlon,
Deputy Assistant Secretary for Science and Data Policy, Office of the Assistant Secretary for Planning and Evaluation.

[FR Doc. 2016-02116 Filed 2-3-16; 8:45 am]

BILLING CODE 4151-05-P